DEPARTMENT OF HOUSING AND URBAN DEVELOPMENT

[Docket No. FR-5613-N-06-A]

Privacy Act of 1974; New System of Records, Office of General Counsel E-Discovery Management System—Change in Final Effective Date

AGENCY: Office of the General Counsel, HUD.

ACTION: Notice.

SUMMARY: This notice advises that HUD's Office of General Counsel (OGC) is moving its final effective date of a new system of records for the OGC E-Discovery Management System until after the opportunity for further comment is provided to the public.

FOR FURTHER INFORMATION CONTACT: For inquiries pertaining to Privacy Act records, contact Donna Robinson-Staton, Chief Privacy Officer, U.S. Department of Housing and Urban Development, 451 7th Street SW., Washington, DC 20410 (Attention: Capitol View Building, 4th Floor) telephone number (202) 402-8073 (this telephone number is not toll free). A telecommunications device for hearing- and speech-impaired persons (TTY) is available by calling the Federal Relay Service's toll-free telephone number (800) 877-8339.

SUPPLEMENTARY INFORMATION: Pursuant to the Privacy Act of 1974, as amended (5 U.S.C. 552a), HUD published in the Federal Register on July 17, 2012, at 77 FR 41997, a notice that announced OGC's intent to establish a new system of records for OGC's E-Discovery Management System (EDMS), a system expected to improve significantly the efficiency of OGC's processing of records during the preservation, discovery and processing of litigation requests when litigation is “reasonably anticipated” and dramatically reduce the time spent on document review and production process. OGC's EDMS is in response to e-discovery preservation and production requirements in the Federal Rules of Civil Procedure.

The July 17, 2012, notice solicited public comment on the new record system for OGC-EDMS, which was detailed in the July 17, 2012, notice, for a period of 30 days. The notice advised that EDMS would carry a final effective date of August 16, 2012, unless HUD received comments which would result in a contrary determination. HUD anticipates receiving public comments prior to August 16, 2012, but even in the absence of comment, HUD determined, upon further review of the system, to make certain clarifications and solicit public comment for another 30-day period. Accordingly, following conclusion of the comment period on August 16, 2012, HUD will consider any public comments related to the July 17, 2012, notice, and subsequently publish another notice. The second notice to be published on the new record system for OGC-EDMS will make the clarifications that HUD believes need to be made, respond to any public comments received by August 16, 2012, make any additional changes that may be recommended by commenters and with which HUD agrees, and solicit public comment for an additional period of 30-days.

Authority: 5 U.S.C. 552a; 88 Stat. 1896; 42 U.S.C. 3535(d).

Dated August 10, 2012.
Camille E. Acevedo,
Associate General Counsel for Legislation and Regulations.

[FR Doc. 2012-20042 Filed 8-14-12; 8:45 am]

BILLING CODE 4210-67-P